DEPARTMENT OF THE INTERIOR

Bureau of Indian Affairs

Draft Environmental Impact Statement for the Scotts Valley Band of Pomo Indians' Proposed 29.87 Acre Fee-to-Trust Transfer and Casino Project, Contra Costa County, California

AGENCY: Bureau of Indian Affairs, Interior.

ACTION: Notice.

SUMMARY: This notice advises the public that the Bureau of Indian Affairs (BIA) has filed a Draft Environmental Impact Statement (DEIS) with the U.S. Environmental Protection Agency for a proposed 29.87 acre fee-to-trust land transfer and casino project to be located within unincorporated Contra Costa County, California. The purpose of the proposed action is to help provide for the economic development of the Scotts Valley Band of Pomo Indians (Tribe). This notice also announces a hearing for the public to provide comments on the DEIS.

DATES: Written comments on the DEIS must arrive by April 28, 2006. The public hearing will be held March 15, 2006, from 6 p.m. to 9 p.m., or until the last public comment is received.

ADDRESSES: You may mail or hand carry written comments to Clay Gregory, Regional Director, Pacific Regional Office, Bureau of Indian Affairs, 2800 Cottage Way, Sacramento, California 95825. Please include your name, return address, and the caption, “DEIS Comments, Scotts Valley Casino Project,” on the first page of your written comments.

The public hearing will be held at the Richmond Memorial Auditorium, 403 Civic Center Plaza, Richmond, California.

The DEIS will be available for review at the Richmond Public Library, Main Library, 325 Civic Center Plaza, Richmond, California 94804, and at the Contra Costa County Library, San Pablo Branch, 2300 El Portal Drive, Suite D, San Pablo, California 94806. General information for the Richmond Public Library can be obtained by calling (510) 620-6555 and for the Contra Costa County Library by calling (925) 646-6423.

If you would like to obtain a copy of the DEIS, please write or call John Rydzik, Chief, Division of Environmental, Cultural Resource Management and Safety, Pacific Region, Bureau of Indian Affairs, 2800 Cottage Way, Room W-2820, Sacramento, CA 95825, telephone (916) 978-6042. An electronic version of the DEIS may be viewed at http://www.analyticalcorp.com.

FOR FURTHER INFORMATION CONTACT: John Rydzik, (916) 978-6042.

SUPPLEMENTARY INFORMATION: The Tribe has requested that the BIA take into trust 29.87 acres of land currently held in fee by the Tribe, on which the Tribe proposes to construct a casino, parking areas and other facilities. The proposed project is located in unincorporated Contra Costa County, contiguous with the City of Richmond. The project site is adjacent to Richmond Parkway and Parr Boulevard, within 3 miles of Interstate 80.

The proposed action includes the development of a 225,000 square foot casino complex, 45 feet in height, which would consist of a combination of uses. These include a main gaming hall, restaurant, entertainment lounge, buffet, sports bar, food court, banking and administration facilities and events center. The proposed facility would also include a five level parking structure with 2,044 parking spaces and approximately 1,275 surface parking spaces to accommodate self-parking, valet parking, overflow parking, bus and RV parking, employee parking, and executive parking. Driveways along Parr Boulevard would provide access to the parking areas and casino. Regional access to the casino complex would be from Richmond Parkway via Interstate 80.

A range of project alternatives is considered in the DEIS. These are as follows: (1) The proposed casino complex; (2) a reduced casino; (3) a reduced casino and commercial development; (4) retail/office development; and (5) no action. Environmental issues addressed in the DEIS include land resources, water resources, air quality, biological resources, cultural resources, socioeconomic conditions, environmental justice, transportation, land use, agriculture, public services, noise, hazardous materials, visual resources, cumulative effects, indirect effects, growth inducing effects and mitigation measures.

The BIA is the lead agency for the EIS/DEIS on this project. The Tribe, Contra Costa County and the California Department of Transportation are participating as cooperating agencies. A public scoping meeting for the EIS was held by the BIA on August 4, 2004, in Richmond, California.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.l.

Dated: February 10, 2006.
Michael D. Olsen,
Acting Principal Deputy Assistant Secretary—Indian Affairs.

[FR Doc. E6-2755 Filed 2-27-06; 8:45 am]

BILLING CODE 4310-W7-P